DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.).

Permit No. TE-043210

Applicant: Dr. David M. Leslie, Jr., Stillwater, Oklahoma. Applicant requests a permit for recovery purposes to conduct surveys for the Ozark big-eared bat (Corynorhinus townsendii ingens) within Oklahoma.

Permit No. TE-044783

Applicant: Philip W. Hedrick, Tempe, Arizona.

Applicant requests a permit for recovery purposes to conduct surveys for the Gila topminnow (Poecilipopsts occidentalis occidentalis) within Arizona.

Permit No. TE-020844

Applicant: Engineering and Environmental Consultants, Tucson, Arizona.

Applicant requests a permit for recovery purposes to conduct surveys for the Huachuca water umbel (Lilaeopsis schaffneriana var. recurva) within Arizona.

Permit No. TE-045236

Applicant: SWCA, Inc.,Environmental Consultants, Albuquerque, New Mexico.

Applicant requests a permit for recovery purposes to conduct surveys for the following species: Lesser long-nosed bat (Leptonycteris curasoae yerbabuenae) within Texas, New Mexico, and Arizona; Mexican long-nosed bat (Leptonycteris nivalis) within New Mexico and Arizona; Gila topminnow (Poecilipopsts occidentalis occidentalis) within New Mexico and Arizona; Gila trout (Oncorhynchus gilae) within New Mexico and Arizona; Rio Grande silvery minnow (Hybognathus amarus) within New Mexico; Pecos gambusia (Gambusia nobilis) within New Mexico; Southwestern willow flycatcher (Empidonax traillii extimus) within New Mexico, Arizona, and Texas.

DATES: Written comments on these permit applications must be received on ore before August 30, 2001.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8:00 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Steven M. Chambers,
Acting Assistant Regional Director, Ecological Services, Region 2, Albuquerque, New Mexico.

[FR Doc. 01-18971 Filed 7-30-01; 8:45 am]

BILLING CODE 4310-55-P